DEPARTMENT OF DEFENSE

Office of the Secretary

[Docket ID DoD-2013-OS-0231]

Submission for OMB Review; Comment Request

ACTION: Notice.

SUMMARY: The Department of Defense has submitted to OMB for clearance, the following proposal for collection of information under the provisions of the Paperwork Reduction Act (44 U.S.C. Chapter 35).

DATES: Consideration will be given to all comments received by May 5, 2014.

FOR FURTHER INFORMATION CONTACT: Fred Licari, 571-372-0493.

SUPPLEMENTARY INFORMATION:

Title, Associated Form and OMB Number: 2014 Pentagon/Mark Center Transportation Commuter Survey; OMB Control Number 0704-TBD.

Type of Request: New.

Number of Respondents: 2800.

Responses per Respondent: 1.

Annual Responses: 2800.

Average Burden per Response: 15 minutes.

Annual Burden Hours: 700.

Needs And Uses: Per requirements in the Administrative Instruction (AI) 109, and the National Capital Planning Commission (NCPC) approved Base Relocation and Closure (BRAC) #133 Transportation Management Plan (TMP), the WHS Transportation Management Program Office (TMPO) will conduct surveys of both Federal and non-Federal employees in order to monitor the effectiveness of the various Pentagon and Mark Center Transportation Programs and Strategies. The purpose of the surveys is to gather travel mode choice information from DoD employees and contractors located at the Pentagon and Mark Center. Information gathered from this effort will be used to refine the DoD shuttle service and travel demand management strategies currently being implemented at each facility to reduce traffic congestion. The results of the transportation/commuter surveys will be utilized to accomplish the aforementioned tasks and to support future transportation related improvement efforts to enhance transportation to and from the Pentagon, Mark Center and DoD facilities in the National Capital Region.

Affected Public: Individuals and Households.

Frequency: Annual.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: March 31, 2014.
Aaron Siegel,
Alternate OSD Federal Register Liaison Officer, Department of Defense.

[FR Doc. 2014-07435 Filed 4-2-14; 8:45 am]

BILLING CODE 5001-06-P